DEPARTMENT OF ENERGY

Federal Energy Regulatory Commission

[Project No. 13272-007]

Alaska Village Electric Cooperative, Inc., Alutiiq Tribe of Old Harbor; Notice of Application of Transfer of License and Soliciting Comments, Motions To Intervene, and Protests

On February 22, 2024, Alaska Village Electric Cooperative, Inc., (transferor) filed an application for a transfer of license of the 262-kilowatt Old Harbor Hydroelectric Project No. 13272. The project is located on Mountain Creek in Kodiak Island Borough, Alaska. The project occupies federal land within the Kodiak National Wildlife Refuge administered by the U.S. Fish and Wildlife Service.

Pursuant to 16 U.S.C. 801, the applicant seeks Commission approval to transfer the license for the project from Alaska Village Electric Cooperative, Inc. to Alutiiq Tribe of Old Harbor (transferee). The transferee will be required by the Commission to comply with all the requirements of the license as though it were the original licensee.

Applicants Contact: William R. Stamm, Alaska Village Electric Cooperative, Inc, 4831 Eagle Street, Anchorage, AK 99503, bstamm@avec.org.

Jeff Peterson, Alutiiq Tribe of Old Harbor, P.O. Box 62, Old Harbor, AK 99643.

FERC Contact: Steven Sachs, Phone: (202) 502-8666, Email: Steven.Sachs@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-13272-007. Comments emailed to Commission staff are not considered part of the Commission record.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: April 23, 2024.
Debbie-Anne A. Reese,
Acting Secretary.

[FR Doc. 2024-09197 Filed 4-29-24; 8:45 am]

BILLING CODE 6717-01-P